DEPARTMENT OF THE INTERIOR

National Park Service

[N6410; NPS-WASO-NAGPRA-NPS0040804; PPWOCRADN0-PCU00RP14.R50000]

Notice of Inventory Completion: Birmingham Museum of Art, Birmingham, AL

AGENCY: National Park Service, Interior.

ACTION: Notice.

SUMMARY: In accordance with the Native American Graves Protection and Repatriation Act (NAGPRA), the Birmingham Museum of Art (BMA) has completed an inventory of associated funerary objects and has determined that there is a cultural affiliation between the associated funerary objects and Indian Tribes or Native Hawaiian organizations in this notice.

DATES: Repatriation of the associated funerary objects in this notice may occur on or after September 15, 2025.

ADDRESSES: Send written requests for repatriation of the associated funerary objects in this notice to Dr. Anne Forschler-Tarrasch, Director of Collections & Exhibitions, Birmingham Museum of Art, 2000 Rev. Abraham Woods, Jr. Boulevard, Birmingham, AL 35203, email aforschler@artsbma.org.

SUPPLEMENTARY INFORMATION: This notice is published as part of the National Park Service's administrative responsibilities under NAGPRA. The determinations in this notice are the sole responsibility of BMA, and additional information on the determinations in this notice, including the results of consultation, can be found in its inventory or related records. The National Park Service is not responsible for the determinations in this notice.

Abstract of Information Available

Based on the information available, two associated funerary objects are present. These are represented by two bannerstones. Following the repatriation of two Ancestors identified in a Notice of Inventory Completion published in the Federal Register on April 8, 2024 (89 FR 24498), two associated funerary objects from the same location (Detroit, AL) were identified in collection. Like the Ancestors, the associated funerary objects were donated to BMA in 1969 by Dr. Samuel Fischer, III. In consultation with the culturally affiliated Tribes, it was determined that the two bannerstones are the associated funerary objects of the Ancestors published in the Federal Register notice referenced above.

Cultural Affiliation

Based on the information available and the results of consultation, cultural affiliation is reasonably identified by the geographical location or acquisition history of the associated funerary objects described in this notice.

Determinations

BMA has determined that:

• The two objects described in this notice are reasonably believed to have been placed intentionally with or near individual human remains at the time of death or later as part of the death rite or ceremony.

• There is a reasonable connection between the associated funerary objects described in this notice and the Jena Band of Choctaw Indians; Mississippi Band of Choctaw Indians; and The Choctaw Nation of Oklahoma.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the associated funerary objects described in this notice to a requestor may occur on or after September 15, 2025. If competing requests for repatriation are received, BMA must determine the most appropriate requestor prior to repatriation. Requests for joint repatriation of the associated funerary objects are considered a single request and not competing requests. BMA is responsible for sending a copy of this notice to the Indian Tribes and Native Hawaiian organizations identified in this notice and any other consulting parties.

(Authority: Native American Graves Protection and Repatriation Act, 25 U.S.C. 3003, and the implementing regulations, 43 CFR 10.10.)

Dated: July 31, 2025.
Melanie O'Brien,
Manager, National NAGPRA Program.

[FR Doc. 2025-15400 Filed 8-13-25; 8:45 am]

BILLING CODE 4312-52-P